DEPARTMENT OF THE INTERIOR

U.S. Geological Survey

National Cooperative Geologic Mapping Program (NCGMP) and National Geological and Geophysical Data Preservation Program (NGGDPP) Advisory Committee

AGENCY: U.S. Geological Survey, Interior.

ACTION: Notice of Audio Conference.

SUMMARY: Pursuant to Public Law 106-148, the NCGMP and NGGDPP Advisory Committee will hold an audio conference call on February 29, 2012, from 2 p.m.-4 p.m. Eastern Standard Time. The Committee will hear updates on progress of the NCGMP toward fulfilling the purposes of the National Geological Mapping Act of 1992; the Federal, State, and education components of the NCGMP; and the National Geological and Geophysical Data Preservation Program.

DATES: February 29, 2012, from 2 p.m.-4 p.m. Eastern Standard Time.

FOR FURTHER INFORMATION CONTACT: For the phone number and access code, please contact Michael Marketti, U.S. Geological Survey, Mail Stop 908, National Center, Reston, Virginia 20192, (703) 648-6976.

SUPPLEMENTARY INFORMATION: Meetings of the National Cooperative Geological Mapping Program and National Geological and Geophysical Data Preservation Program Advisory Committee are open to the Public.

Dated: January 31, 2012.
Kevin T. Gallagher,
Associate Director for Core Science Systems.

[FR Doc. 2012-2840 Filed 2-7-12; 8:45 am]

BILLING CODE 4311-AM-P